FEDERAL RETIREMENT THRIFT INVESTMENT BOARD

Notice of Board Meeting

DATES: January 26, 2021 at 10:00 a.m.

ADDRESSES: Telephonic. Dial-in (listen only) information: Number: 1-415-527-5035, Code: 199 601 5134; or via web: https://tspmeet.webex.com/tspmeet/onstage/g.php?MTID=e84524dda563a8355830b6e7b51e26b53.

FOR FURTHER INFORMATION CONTACT: Kimberly Weaver, Director, Office of External Affairs, (202) 942-1640.

SUPPLEMENTARY INFORMATION:

Board Meeting Agenda

Open Session

1. Approval of the December 21, 2020 Board Meeting Minutes

2. Monthly Reports

(a) Participant Activity Report

(b) Legislative Report

3. Quarterly Reports

(c) Investment Policy

(d) Budget Review

(e) Audit Status

4. Internal Audit Update

5. Annual Expense Ratio Review

6. Multi-asset Manager Update

7. Recordkeeping Services Acquisition (RKSA) Update

Closed Session

8. Information covered under 5 U.S.C. 552b (c)(9)(B).

Authority: 5 U.S.C. 552b (e)(1).

Dated: January 14, 2021.
Dharmesh Vashee,
Acting General Counsel, Federal Retirement Thrift Investment Board.

[FR Doc. 2021-01321 Filed 1-21-21; 8:45 am]

BILLING CODE P